DEPARTMENT OF HOUSING AND URBAN DEVELOPMENT

[Docket No.FR-4922-N-19]

Privacy Act of 1974; Amendment to an existing System of Records, Enterprise Income Verification, HUD/PIH-5

AGENCY: Office of the Chief Information Officer, HUD.

ACTION: Notification of an amendment to an existing System of Records, Enterprise Income Verification (EIV), HUD/PIH-5.

SUMMARY: HUD is amending HUD/PIH-5 to reflect changes in the following section: Categories of Individuals Covered by the System, Categories of Records in the System, Authority for Maintenance of the System, Purpose of the System and the Routine Uses. These sections are revised to reflect the present status of the information contained in the system. A more detailed description of the present system is contained in the Supplemental Information section.

DATES: Effective Date: This proposal shall become effective without further notice September 7, 2006 unless comments are received during or before this period which would result in a contrary determination.

Comments Due Date: September 7, 2006.

ADDRESSES: Interested persons are invited to submit comments regarding this notice to the Rules Docket Clerk, Office of General Counsel, Department of Housing and Urban Development, 451 Seventh Street, SW., Room 10276, Washington, DC 20410-0500. Communications should refer to the above docket number and title. Facsimile (FAX) comments are not acceptable. A copy of each communication submitted will be available for public inspection and copying between 8 a.m. and 5 p.m. weekdays at the above address.

FOR FURTHER INFORMATION CONTACT: Jeanette Smith, Departmental Privacy Act Officer, telephone number (202) 708-2374. Regarding records maintained in Washington, DC, for the Office of Public and Indian Housing, contact Nicole Faison, Director of Public Housing and EIV Program Office Project Manager, telephone number (202) 708-0744. For the Office of Housing, contact Gail Williamson, Director of the Housing Assistance Policy Division, telephone number (202) 708-3000 extension 2473. [The above are not toll free numbers.] A telecommunications device for hearing and speech-impaired persons (TTY) is available at 1-800-877-8339 (Federal Information Relay Services). (This is a toll-free number).

SUPPLEMENTARY INFORMATION: Currently supporting public housing agencies (PHAs) that administer public housing and Section 8 tenant-based rental assistance programs, this system of records is being made available to private owners and management agents (O/As) who administer rental assistance programs for the Office of Housing (Housing) and contract administrators (CAs) under contract with HUD. EIV will contain income data for public housing, Section 8, and multifamily housing program participants, enabling program administrators to verify participant-reported income and identify households that may have under reported their household's annual income.

HUD developed the EIV system to reduce subsidy payment errors as a result of tenant under reporting of income to ensure that limited federal resources serve as many eligible families as possible. EIV will facilitate more timely and accurate verification of tenant-reported income at the time of mandatory annual and interim reexamination of household income.

EIV will contain personal identifying information from HUD's Public and Indian Housing Information Center (PIC) and Tenant Rental Assistance Certification System (TRACS), such as Head of Households and household members name, date of birth and Social Security Number (SSN), unit address, program information, and household income details as reported by the participant to the program administrator. These personal identifying data are extracted from PIC and TRACS and imported into EIV. The system also contains household member(s) income details as reported by state and federal agencies. HUD obtains income details through computer matching programs.

System Security Measures: The integrity and availability of data in EIV is important. Much of the data needs to be protected from unanticipated or unintentional modification. HUD restricts the use of this information to HUD approved officials, program administrators such as PHAs and O/As, and CAs under contract with HUD; thus, the data is protected accordingly.

Vulnerabilities and corresponding security measures include: (1) only persons with Web Access Subsystem (WASS) User IDs and passwords may access EIV; (2) access to EIV is controlled using EIV's security module, which controls a user's access to particular modules based on the user's role and security access level; (3) User IDs are used to identify access to sensitive data by users; (4) data corruption/destruction-PHA, O/A and CA users do not have write access to databases. HUD user's write access is limited to user administration by authorized personnel. This will eliminate the risk of data destruction or corruption.

Data Quality: O/As enter management, building, unit, and family information into PIC and TRACS. Family information includes the families' names, SSNs, and dates of birth. When a PHA or O/A submits family data to PIC or TRACS, the EIV system will validate each household member's identity. HUD will only transmit to the Department of Health and Human Services (HHS) for computer matching those tenant personal identifiers (i.e., full name, SSN, and date of birth) that have been validated by the Social Security Administration (SSA). If a household member's identity cannot be validated, EIV will (1) flag the household member record; (2) provide an error message to the PHA or O/A, informing the PHA or O/A to verify the household member's SSN, name, and/or date of birth; and (3) request the PHA or O/A to submit a corrected record (Form HUD-50058 or Form HUD-50059) into PIC or TRACS. EIV will remove the unverified household member record from computer matching request files.

This household member identity verification feature was established to help HUD maintain data quality and integrity and to support one of its strategic objectives to prevent fraud and abuse. This identity verification feature will (1) help confirm that those families entitled to benefits receive benefits, (2) assist in limiting the duplication of benefits, and (3) help prevent the false application for benefits, thereby ensuring data quality.

EIV will receive (1) new hires (W-4), wage, and unemployment insurance claim data from HHS' National Directory of New Hires (NDNH) database, (2) wage and unemployment insurance claim data from State Wage Information Collection Agencies (SWICAs), and (3) Social Security (SS) and Supplemental Security Income (SSI) benefits data from the Social Security Administration (SSA). This will allow PHAs and O/As to verify the income of tenants at the time of mandatory annual and/or interim reexaminations.

Pursuant to the Privacy Act of 1974 (5 U.S.C. 552a), as amended, notice is given that HUD proposes to amend an existing Privacy System of Records, Enterprise Income Verification, HUD/PIH-5.

Title 5 U.S.C 552a(e) (4) and (11) provide that the public be afforded a 30-day period in which to comment on the new record system. The new system report was submitted to the Office of Management and Budget (OMB), the Senate Committee on Governmental Affairs and the House Committee on Government Reform pursuant to paragraph 4c of Appendix l to OMB Circular No. A-130, “Federal Responsibilities for Maintaining Records About Individuals,” July 25, 1994 (59 FR 37914).

Accordingly, this notice amends HUD/PIH-5 system of records for the Office of Housing's Multifamily Housing Program administrators and accompanying routine uses to be submitted and accessed in the management of rental assistance housing programs by the Office of Housing.

Authority: 5 U.S.C. 552a; 88 Stat. 1896; 42 U.S.C. 3535(d).

Dated: August 1, 2006.
Lisa Schlosser,
Chief Information Officer.

HUD/PIH-5

SYSTEM NAME:

Enterprise Income Verification (EIV).

SYSTEM LOCATIONS:

The files will be maintained at the following location: U.S. Department of Housing and Urban Development, 451 7th Street, SW., Washington, DC 20410. Lockheed Martin Corporation, located at 4701 Forbes Blvd., Lanham, MD 20706, will monitor access of any encrypted files containing social security and rent information (subject to the provisions of 26 U.S.C. 6103).

CATEGORIES OF INDIVIDUALS COVERED BY THE SYSTEM:

Families receiving rental housing assistance via programs administered by the Department of Housing and Urban Development, Tribally Designated Housing Entities participating in the Section 8 program, PHAs and/or O/As and State agencies and PHAs acting as CAs.

CATEGORIES OF RECORDS IN THE SYSTEM:

Records consist of unit address (subsidized property address), family composition, and income data obtained from PHAs and O/As. The system of records contains—identification information such as names, dates of birth and SSNs for individuals; addresses; financial data such as tenant-reported income; data obtained from SWICAs on wages and unemployment claim information; data obtained from SSA on SS and SSI benefit information; data obtained from NDNH on new hire, wages and unemployment claim information; annual income discrepancies as a result of the comparison of tenant reported income to actual income as reported by third party sources such as SWICAs and Federal agencies.

AUTHORITY FOR MAINTENANCE OF THE SYSTEM:

Pursuant to the Stewart B. McKinney Homeless Assistance Amendments Act of 1988 and Section 303(i) of the Social Security Act, HUD and HUD-funded PHAs may request wage and claim data from SWICAs responsible for administering state unemployment laws. On October 1, 1994, Section 542(a)(1) of HUD's 1998 Appropriation Act, eliminated a sunset provision to Section 303(i) of the Social Security Act, effectively making permanent the authority requiring state agencies to disclose wage and claim information to HUD and PHAs. On January 23, 2004, Section 453(j) of the Social Security Act (42 U.S.C. 653(j)) was amended to allow HUD to obtain income information from the NDNH database and disclose this information to PHAs for the purpose of verifying employment and income of rental housing program participants. HUD may disclose NDNH data to a private owner, management agent, and contract administrator under contract with HUD based on (1) an evaluation of the costs and benefits of disclosures made to PHAs, and (2) the adequacy of measures used to safeguard the security and confidentiality of information so disclosed. Disclosure of NDNH data to O/As and CAs is only as needed for verifying the employment and income of multifamily housing program participants. The Housing and Community Development Act of 1987 authorizes HUD to require applicants for and participants in HUD-administered rental housing assistance programs to disclose to HUD their SSNs as a condition of initial or continued eligibility for participation in these HUD programs. The Omnibus Budget Reconciliation Act of 1993 (Budget Reconciliation Act) authorizes HUD to request from SSA federal tax data, as prescribed in section 6103(l)(7) of title 26 of the United States Code (Internal Revenue Code).

PURPOSES:

The primary purpose of EIV is to allow PHAs and O/As to verify tenant reported income, identify unreported income sources and/or amounts received by program participants, and identify substantial annual income discrepancies amongst households that receive HUD-provided rental assistance through programs administered by PIH and Housing. The first release of EIV was successfully implemented on August 16, 2004. EIV is a simple, Internet-based integrated system, which enables PHA users, HUD personnel and O/As to access a common database of tenant information via their Web browser. EIV will aid HUD and entities that administer HUD's assisted housing programs in: (a) increasing the effective distribution of rental assistance to individuals that meet the requirements of federal rental assistance programs, (b) detecting abuses in assisted housing programs, (c) taking administrative or legal actions to resolve past and current abuses of assisted housing programs, (d) deterring abuses by verifying the income of tenants at the time of annual and interim reexaminations via the use of electronic income data received from SWICAs, NDNH, and SSA, (e) evaluating the effectiveness of income discrepancy resolution actions taken by O/As and PHAs for some of HUD's rental assistance programs, and (f) reducing administrative burden of obtaining written or oral third party verification (when the tenant does not dispute information provided by EIV. EIV is a management information system that contains tools to help: (1) improve the income verification process, (2) monitor incidents of potential tenant under reporting of household income, (3) produce management reports, and (4) conduct risk assessments.

The EIV system serves as a repository for automated information used when comparing family income data reported by recipients of federal rental assistance to income data received from external sources (e.g., NDNH, SWICAs, SSA, etc.). Records in TRACS, PIC, and EIV are subject to use in authorized and approved computer matching programs regulated under the Privacy Act of 1974, as amended.

ROUTINE USES OF RECORDS MAINTAINED IN THE SYSTEM, INCLUDING CATEGORIES OF USERS AND PURPOSES OF SUCH USES:

In addition to the uses cited in the section of this document titled “Purposes”, other routine uses may include:

1. To Federal, State, and local agencies (e.g., state agencies administering the state's unemployment compensation laws, state welfare and food stamp agencies, U.S Office of Personnel Management, U.S. Postal Service, U.S. Department of Defense, U.S. Department of Health and Human Services, and U.S. Social Security Administration)—to verify the accuracy and completeness of the data provided, to verify eligibility or continued eligibility in HUD's rental assistance programs, and to aid in the identification of tenant errors, fraud, and abuse in assisted housing programs through HUD's tenant income computer matching program;

2. To individuals under contract to HUD or under contract to another agency with funds provided by HUD—for the preparation of studies and statistical reports directly related to the management of HUD's rental assistance programs, to support quality control for tenant eligibility efforts requiring a random sampling of tenant files to determine the extent of administrative errors in making rent calculations, eligibility determinations, etc., and for processing certifications/re-certifications;

3. To PHAs and O/As—to verify the accuracy and completeness of tenant data used in determining eligibility and continued eligibility and the amount of housing assistance received;

4. To PHAs, O/As, and CAs—to identify and resolve discrepancies in tenant data; and

5. To researchers affiliated with academic institutions, with not-for-profit organizations, or with Federal, State or local governments, or to policy researchers—without individual identifiers—name, address, SSN—for the performance of research and statistical activities on housing and community development issues.

POLICIES FOR STORING, RETRIEVING, AND DISPOSING OF SYSTEM RECORDS STORAGE:

Records are stored manually in family case files and electronically in office automation equipment. Records are stored on HUD computer servers for field office, PHAs', and O/A' access via the Internet to: (1) obtain SS and SSI data that are not subject to provisions of 26 U.S.C. 6103; (2) obtain wage and unemployment compensation data; and (3) obtain household income discrepancies reports. Software in EIV precludes the transfer of any data subject to 26 U.S.C. 6103 to unencrypted media.

RETRIEVABILITY:

Records may be retrieved by computer search of indices by the Head of Household's name, date of birth, and/or SSN of an existing HUD program participant.

SAFEGUARDS:

Records are maintained at the U.S. Department of Housing and Urban Development in Washington, DC with limited access to those persons whose official duties require the use of such records. Computer files and printed listings are maintained in locked cabinets. Printed listings include masked dates of birth and SSNs. Computer terminals are secured in controlled areas, which are locked when unoccupied. Access to automated records is limited to authorized personnel who must use a password system to gain access. HUD will safeguard the SSN, income, and personal identifying information obtained pursuant to 26 U.S.C. 6103(l)(7)(A) and (B) in accordance with 26 U.S.C. 6103(p)(4) and the IRS's “Tax Information Security Guidelines for Federal, State and Local Agencies,” Publication 1075 (REV 6/2000).

RETENTION AND DISPOSAL:

Computerized family records are maintained in a password-protected environment. If information is needed for evidentiary purposes, documentation will be referred to the HUD Office of Inspector General (OIG) in Washington, DC or other appropriate Federal, State or local agencies charged with the responsibility of investigating or prosecuting violators of Federal law. Documents referred to HUD's OIG will become part of OIG's Investigative Files. Records will be retained and disposed of in accordance with the General Records Schedule included in HUD Handbook 2228.2, appendix 14, item 25.

SYSTEM MANAGERS AND ADDRESSES:

David Sandler, PIH Project Manager of the EIV system, U.S. Department of Housing and Urban Development, 550 12th Street SW., First Floor—Desk 1304, Washington, DC 20410. Lanier Hylton, Housing Project Manager of the EIV system, U.S. Department of Housing and Urban Development, 451 7th Street, SW., Room 6140, Washington, DC 20410.

NOTIFICATION AND RECORD ACCESS PROCEDURES:

Individuals seeking to determine whether this system of records contains information about them, or those seeking access to such records, should address inquiries to the Director of the Office of Public and Indian Housing, Office of Public Housing and Voucher Programs or the Director of the Office of Housing, Office of Housing Assistance Contract Administration Oversight, U.S. Department of Housing and Urban Development, 451 7th Street SW., Washington, DC 20410. Written requests must include the full name, SSN, date of birth, current address, and telephone number of the individual making the request.

CONTESTING RECORD PROCEDURES:

Procedures for the amendment or correction of records, and for applicants wanting to appeal initial agency determinations based on data in EIV, appear in 24 CFR part 16.

RECORD SOURCE CATEGORIES:

PIH and Housing may receive data from HUD field office staff, Federal Government agencies, State and local agencies, private data sources, owners and management agents, PHAs, and contract administrators. PHAs and O/As routinely collect personal and income data from participants in and applicants for HUD's public and assisted housing programs. The data collected by PHAs and O/As is entered into the PIC and TRACS system, respectively, on-line via the system itself, via PHA or O/A-owned software, or via HUD's Family Reporting Software (FRS). Data from PIC and TRACS is imported into EIV and used to create request files for computer matching programs.

EXEMPTIONS FROM CERTAIN PROVISIONS OF THE ACT:

None.

[FR Doc. E6-12802 Filed 8-7-06; 8:45 am]

BILLING CODE 4210-67-P